DEPARTMENT OF THE INTERIOR

National Park Service

[NPS-WASO-NAGPRA-11514; 2200-1100-665]

Notice of Inventory Completion: U.S. Department of Agriculture, Forest Service, Tongass National Forest, Juneau, AK, and the University of Alaska, Museum of the North, Fairbanks, AK

AGENCY: National Park Service, Interior.

ACTION: Notice.

SUMMARY: The U.S. Department of Agriculture (USDA), Forest Service, Tongass National Forest, and the University of Alaska, Museum of the North, have completed an inventory of human remains in consultation with the appropriate Indian tribe, and have determined that there is a cultural affiliation between the human remains and a present-day Indian tribe. Representatives of any Indian tribe that believes itself to be culturally affiliated with the human remains may contact the Tongass National Forest. Repatriation of the human remains to the Indian tribe stated below may occur if no additional claimants come forward.

DATES: Representatives of any Indian tribe that believes it has a cultural affiliation with the human remains should contact the Tongass National Forest at the address below by December 17, 2012.

ADDRESSES: Forrest Cole, Forest Supervisor, Tongass National Forest, 648 Mission St, Ketchikan, AK 99901, telephone (907) 228-6281.

SUPPLEMENTARY INFORMATION: Notice is here given in accordance with the Native American Graves Protection and Repatriation Act (NAGPRA), 25 U.S.C. 3003, of the completion of an inventory of human remains under the control of the USDA Tongass National Forest and in the possession of the University of Alaska, Museum of the North, Fairbanks, AK. The human remains were removed from the Tongass National Forest, near Juneau, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Museum of the North professional staff in consultation with representatives of Douglas Indian Association.

History and Description of the Remains

Sometime in 1964 or earlier, human remains representing, at minimum, two individuals were removed from the Taku Village Site, near Juneau, AK. The Taku Village site is located approximately 12 miles from Juneau, AK, on lands of the Tongass National Forest. The human remains consist of two skulls found in a grave at the extreme east end of the village, about 50 feet from the high water line of the beach. The grave was marked by a marble headstone and bore the inscription: “Johnny Age 25 years, Died February 1895 Erected by his brother William.” The second individual buried in the grave is likely a woman. The gravesite may be described as a buried house, including a wooden floor, log sides, and three layers of hand-sawed planks for a roof. About six inches of soil covered the top layer of planks. A fence surrounded the grave and the marble headstone. One individual was identified by the grave marker; the other individual was not identified. No associated funerary objects are present.

The human remains are determined to be Native American due to the nature of the burial and the location within the graveyard of the Taku Village. The Taku Village site was one of the primary villages inhabited by the Taku Tlingit until about 1926, with graves at the cemetery dating from 1895 to 1926. The Taku Village site and cemetery is located within the traditional territory of the Taku Tlingit, represented today by the Douglas Indian Association. Oral traditions confirm the affiliation of the Taku Tlingit with the Taku Village site and cemetery, and support the culturally affiliation with present day Douglas Indian Association.

Determinations Made by the USDA Tongass National Forest and the Museum of the North

Officials of the USDA Tongass National Forest and the Museum of the North have determined that:

• Pursuant to 25 U.S.C. 3001(9), the human remains described in this notice represent the physical remains of two individuals of Native American ancestry.

• Pursuant to 25 U.S.C. 3001(2), there is a relationship of shared group identity that can be reasonably traced between the Native American human remains and the Douglas Indian Association.

Additional Requestors and Disposition

Representatives of any Indian tribe that believes itself to be culturally affiliated with the human remains should contact Forrest Cole, Forest Supervisor, Tongass National Forest, 648 Mission St, Ketchikan, AK 99901, telephone (907) 228-6281, before December 17, 2012. Repatriation of the human remains to the Douglas Indian Association may proceed after that date if no additional claimants come forward.

The Tongass National Forest is responsible for notifying the Douglas Indian Association that this notice has been published.

Dated: October 16, 2012.
Sherry Hutt,
Manager, National NAGPRA Program.

[FR Doc. 2012-27948 Filed 11-15-12; 8:45 am]

BILLING CODE 4312-50-P